DEPARTMENT OF HEALTH AND HUMAN SERVICES

National Institutes of Health

Notice of New NIH Policy Manual 1311—Preventing and Addressing Harassment and Inappropriate Conduct and New Policy Statement on Inappropriate Relationships in the Workplace

AGENCY: National Institutes of Health, HHS.

ACTION: Notice.

SUMMARY: The National Institutes of Health (NIH) announces Policy Manual Chapter: 1311—Preventing and Addressing Harassment and Inappropriate Conduct and a new Policy Statement addressing Personal Relationships in the Workplace. These policies apply to federal employees, contractors, trainees, and fellows who perform work for the NIH. The NIH expects that organizations receiving NIH funds have in place similarly rigorous policies and related procedures for their employees, contractors, trainees, and fellows who engage in agency-funded activities.

FOR FURTHER INFORMATION CONTACT: For further information about these new policies, contact Jessica Hawkins, Office of Human Resources, National Institutes of Health, Building 31, Room 1/B37, Bethesda, Maryland 20892, telephone 301-402-8006 (not a toll-free number), hawkinj@od.nih.gov.

SUPPLEMENTARY INFORMATION: Policy Manual 1311—Preventing and Addressing Harassment and Inappropriate Conduct states that the NIH will not tolerate inappropriate conduct or harassment, including sexual harassment. Timely and appropriate action will be taken against any individual found to be in violation of the policy outlined in the Manual Chapter. Through enforcement of this policy, the NIH seeks to prevent, correct, and eliminate unacceptable behavior that is inconsistent with the values and culture of respect and inclusion. Further, the policy is intended to increase the transparency and consistency in how allegations of harassment are reviewed and resolved. NIH leadership has designated the Office of Human Resources' Civil Program as the entity charged with receiving allegations of harassment and overseeing relevant administrative inquiries.

The NIH Policy Statement on Personal Relationships in the Workplace states that personal relationships (including romantic and/or sexual) between individuals in inherently unequal positions, where one party has real or perceived authority over the other in their professional roles, may be inappropriate in the workplace and are strongly discouraged. If such a relationship exists or develops, it must be disclosed. Upon such notification, the responsible agency official must insure that the NIH Institute/Center manages, decreases, or eliminates potential risk as a result of the relationship.

This applies to all individuals in the NIH community, including employees, contractors, students, trainees, and fellows and includes anyone who holds a position of authority or perceived authority over another individual from a scientific or administrative perspective.

Dated: September 17, 2018.
Francis S. Collins,
Director, National Institutes of Health.

[FR Doc. 2018-20505 Filed 9-19-18; 8:45 am]

BILLING CODE 4140-01-P